NUCLEAR REGULATORY COMMISSION

[Docket No. 50-331; NRC-2018-0123]

Duane Arnold Energy Center

AGENCY: Nuclear Regulatory Commission.

ACTION: License amendment application; withdrawal by applicant.

SUMMARY: The U.S. Nuclear Regulatory Commission (NRC) has granted the request of NextEra Energy Duane Arnold, LLC (NextEra) to withdraw its application dated August 31, 2017, for a proposed amendment to Duane Arnold Energy Center (DAEC), Facility Operating License No. DPR-49. The proposed amendment would have modified the licensing basis by the addition of a license condition to allow for the implementation of the NRC's regulations on “Risk-Informed Categorization and Treatment of Structures, Systems, and Components (SSCs) for Nuclear Power Reactors.”

DATES: June 26, 2018.

ADDRESSES: Please refer to Docket ID NRC-2018-0123 when contacting the NRC about the availability of information regarding this document. You may obtain publicly-available information related to this document using any of the following methods:

• Federal Rulemaking Website: Go to http://www.regulations.gov and search for Docket ID NRC-2018-0123. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Mahesh Chawla, Office of Nuclear Reactor Regulation, U.S. Nuclear Regulatory Commission, Washington, DC 20555-0001; telephone: 301-415-8371, email: Mahesh.Chawla@nrc.gov.

SUPPLEMENTARY INFORMATION: The NRC has granted the request of NextEra Energy Duane Arnold, LLC (NextEra) to withdraw its August 31, 2017 (ADAMS Accession No. ML17243A469), application for proposed amendment to Duane Arnold Energy Center (DAEC), Facility Operating License No. DPR-49, located in Linn County, Iowa.

The proposed amendment would have modified the licensing basis by the addition of a license condition to allow for the implementation of the provisions of section 50.69 of title 10 of the Code of Federal Regulations (10 CFR), “Risk-Informed Categorization and Treatment of Structures, Systems, and Components (SSCs) for Nuclear Power Reactors.”

The Commission had previously issued a notice of consideration of issuance of amendment published in the Federal Register on November 21, 2017 (82 FR 55407). However, by letter dated June 12, 2018, the licensee withdrew the proposed change (ADAMS Accession No. ML18166A172).

For further details with respect to this action, see the application for amendment dated August 31, 2017, and the licensee's letter dated June 12, 2018, which withdrew the application for license amendment.

Dated at Rockville, Maryland, on June 20, 2018.
For the Nuclear Regulatory Commission.
Mahesh L. Chawla,
Project Manager, Plant Licensing Branch III, Division of Operating Reactor Licensing, Office of Nuclear Reactor Regulation.

[FR Doc. 2018-13606 Filed 6-25-18; 8:45 am]

BILLING CODE 7590-01-P